NUCLEAR REGULATORY COMMISSION

10 CFR Part 72

[NRC-2021-0108]

RIN 3150-AK64

List of Approved Spent Fuel Storage Casks: TN Americas, LLC, Standardized Advanced NUHOMS® Horizontal Modular Storage System Certificate of Compliance No. 1029, Renewal of Initial Certificate and Amendment Nos. 1, 3, and 4

AGENCY: Nuclear Regulatory Commission.

ACTION: Direct final rule; confirmation of effective date.

SUMMARY: The U.S. Nuclear Regulatory Commission (NRC) is confirming the effective date of October 27, 2021, for the direct final rule that was published in the Federal Register on August 13, 2021. The direct final rule amended the NRC's spent fuel storage regulations by revising the TN Americas, LLC, Standardized Advanced NUHOMS® Horizontal Modular Storage System listing within the “List of approved spent fuel storage casks” to renew, for an additional 40 years, the initial certificate and Amendment Nos. 1, 3, and 4 of Certificate of Compliance No. 1029.

DATES: Effective date: The effective date of October 27, 2021, for the direct final rule published August 13, 2021 (86 FR 44594), is confirmed.

ADDRESSES: Please refer to Docket ID NRC-2021-0108 when contacting the NRC about the availability of information for this action. You may obtain publicly-available information related to this action by any of the following methods:

• Federal Rulemaking Website: Go to https://www.regulations.gov and search for Docket ID NRC-2021-0108. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed certificates of compliance, the proposed changes to the technical specifications, and the preliminary safety evaluation report are available in ADAMS under Package Accession No. ML21067A164. The final certificates of compliance, the final changes to the technical specifications, and the final safety evaluation report are available in ADAMS under Package Accession No. ML21246A086.

• Attention: The PDR, where you may examine and order copies of public documents, is currently closed. You may submit your request to the PDR via email at pdr.resource@nrc.gov or call1-800-397-4209 between 8:00 a.m. and 4:00 p.m. (EST), Monday through Friday, except Federal holidays.

FOR FURTHER INFORMATION CONTACT: Irene Wu, Office of Nuclear Material Safety and Safeguards, U.S. Nuclear Regulatory Commission, Washington, DC 20555-0001; telephone: 301-415-1951, email: Irene.Wu@nrc.gov.

SUPPLEMENTARY INFORMATION: On August 13, 2021 (86 FR 44594), the NRC published a direct final rule amending its regulations in part 72 of title 10 of the Code of Federal Regulations to renew, for an additional 40 years, the initial certificate and Amendment Nos. 1, 3, and 4 of the TN Americas, LLC, Standardized Advanced NUHOMS® Horizontal Modular Storage System Certificate of Compliance No. 1029. The renewal of the initial certificate and Amendment Nos. 1, 3, and 4 revise the certificate of compliance's conditions and technical specifications to address aging management activities related to the structures, systems, and components of the dry storage system to ensure that these will maintain their intended functions during the period of extended storage operations.

In the direct final rule, the NRC stated that if no significant adverse comments were received, the direct final rule would become effective on October 27, 2021. The NRC did not receive any comments on the direct final rule. Therefore, this direct final rule will become effective as scheduled.

Dated: September 30, 2021.
For the Nuclear Regulatory Commission.
Cindy K. Bladey,
Chief, Regulatory Analysis and Rulemaking Support Branch, Division of Rulemaking, Environmental, and Financial Support, Office of Nuclear Material Safety and Safeguards.

[FR Doc. 2021-21796 Filed 10-4-21; 8:45 am]

BILLING CODE 7590-01-P